DEPARTMENT OF ENERGY

Federal Energy Regulatory Commission

Combined Notice of Filings #1

Take notice that the Commission received the following electric rate filings:

Docket Numbers: ER20-1668-001.

Applicants: Dominion Energy South Carolina, Inc.

Description: Tariff Amendment: LGIP Modification Date Extension to be effective 6/28/2020.

Filed Date: 6/4/20.

Accession Number: 20200604-5054.

Comments Due: 5 p.m. ET 6/25/20.

Docket Numbers: ER20-1975-001.

Applicants: Southern California Edison Company.

Description: Tariff Amendment: Correction to Notice of Termination of GIA & DSA SA Nos. 875 and 876 to be effective 6/4/2020.

Filed Date: 6/3/20.

Accession Number: 20200603-5107.

Comments Due: 5 p.m. ET 6/24/20.

Docket Numbers: ER20-1985-000.

Applicants: Northern Colorado Wind Energy Center, LLC.

Description: Baseline eTariff Filing: Northern Colorado Wind Energy Center, LLC MBR Application to be effective 7/23/2020.

Filed Date: 6/3/20.

Accession Number: 20200603-5144.

Comments Due: 5 p.m. ET 6/24/20.

Docket Numbers: ER20-1986-000.

Applicants: Day County Wind I, LLC.

Description: Baseline eTariff Filing: Day County Wind I, LLC Application for MBR Authority to be effective 8/3/2020.

Filed Date: 6/3/20.

Accession Number: 20200603-5145.

Comments Due: 5 p.m. ET 6/24/20.

Docket Numbers: ER20-1987-000.

Applicants: Cerro Gordo Wind, LLC.

Description: Baseline eTariff Filing: Cerro Gordo Wind, LLC Application for MBR Authority to be effective 8/3/2020.

Filed Date: 6/4/20.

Accession Number: 20200604-5000.

Comments Due: 5 p.m. ET 6/25/20.

Docket Numbers: ER20-1988-000.

Applicants: Northern Colorado Wind Energy Center II, LLC.

Description: Baseline eTariff Filing: Northern Colorado Wind Energy Center II, LLC MBR Application to be effective 7/24/2020.

Filed Date: 6/4/20.

Accession Number: 20200604-5056.

Comments Due: 5 p.m. ET 6/25/20.

Docket Numbers: ER20-1989-000.

Applicants: California Independent System Operator Corporation.

Description: § 205(d) Rate Filing: 2020-06-04 Certificate of Concurrence—LGIA among Luz Solar, SCE & CAISO to be effective 5/30/2020.

Filed Date: 6/4/20.

Accession Number: 20200604-5087.

Comments Due: 5 p.m. ET 6/25/20.

Docket Numbers: ER20-1990-000.

Applicants: Duke Energy Progress, LLC.

Description: § 205(d) Rate Filing: DEP-PEMC Wholesale Contract Revisions to Rate Schedule No. 172 to be effective 6/1/2020.

Filed Date: 6/4/20.

Accession Number: 20200604-5088.

Comments Due: 5 p.m. ET 6/25/20.

Docket Numbers: ER20-1991-000.

Applicants: Ponderosa Wind, LLC.

Description: Baseline eTariff Filing: Ponderosa Wind, LLC Application for MBR Authority to be effective 8/4/2020.

Filed Date: 6/4/20.

Accession Number: 20200604-5096.

Comments Due: 5 p.m. ET 6/25/20.

Take notice that the Commission received the following electric securities filings:

Docket Numbers: ES20-42-000.

Applicants: Consumers Energy Company.

Description: Application Under Section 204 of the Federal Power Act for Authorization to Issue Securities of Consumers Energy Company.

Filed Date: 6/3/20.

Accession Number: 20200603-5158.

Comments Due: 5 p.m. ET 6/24/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2020.
Nathaniel J. Davis, Sr.,
Deputy Secretary.

[FR Doc. 2020-12543 Filed 6-9-20; 8:45 am]

BILLING CODE 6717-01-P